DEPARTMENT OF COMMERCE

National Oceanic and Atmospheric Administration

RIN 0648-XS82

Endangered Species; File No. 14634

AGENCY: National Marine Fisheries Service (NMFS), National Oceanic and Atmospheric Administration (NOAA), Commerce.

ACTION: Issuance of permit.

SUMMARY: Notice is hereby given that Douglas Peterson, Ph.D., Warnell School of Forest Resources (Fisheries Division), University of Georgia, Athens, GA 30602, has been issued a permit to take shortnose sturgeon (Acipenser brevirostrum) for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)713-0376; and

Southeast Region, NMFS, 263 13th Ave South, St. Petersburg, FL 33701; phone (727)824-5312; fax (727)824-5309.

FOR FURTHER INFORMATION CONTACT: Malcolm Mohead or Jennifer Skidmore, (301)713-2289.

SUPPLEMENTARY INFORMATION: On October 8, 2009, notice was published in the Federal Register (74 FR 51836) that a request for a scientific research permit to take shortnose sturgeon had been submitted by the above-named individual. The requested permit has been issued under the authority of the Endangered Species Act of 1973, as amended (ESA; 16 U.S.C. 1531 et seq.) and the regulations governing the taking, importing, and exporting of endangered and threatened species (50 CFR parts 222-226).

The purpose of the proposed research is to maintain and conduct research on 95 hatchery-reared shortnose sturgeon at the University of Georgia to meet the following objectives: (1) quantify differences in the environmental tolerances of northern versus southern range shortnose sturgeon, and (2) evaluate ontogenetic changes in the environmental tolerances of juvenile shortnose sturgeon. The fish will be obtained from the Warm Springs National Fish Hatchery and Regional Fisheries Center (USFWS), Warm Springs, Georgia 31830, under NMFS Permit 1604. Using a series of replicated laboratory (lethal and non-lethal) experiments, the researcher will evaluate the individual, additive, and interactive effects of the three habitat variables most critical in determining summer habitat quality for both juveniles and adult shortnose sturgeon: maximum water temperature, maximum salinity, and minimum concentration of dissolved oxygen. Researchers will also examine how environmental tolerances of shortnose sturgeon change with age and conditioning (chronic exposure). Future scientific research with these fish will involve studies of nutrition, tagging, physiology, environmental tolerance, contaminants, fish health, behavioral, tagging, genetics, and fish culture techniques. The permit does not authorize any takes from the wild, nor does it authorize any release of captive sturgeon into the wild.

Issuance of this permit, as required by the ESA, was based on a finding that such permit (1) was applied for in good faith, (2) will not operate to the disadvantage of such endangered or threatened species, and (3) is consistent with the purposes and policies set forth in section 2 of the ESA.

Dated: November 6, 2009.
P. Michael Payne,
Chief, Permits, Conservation and Education Division, Office of Protected Resources, National Marine Fisheries Service.

[FR Doc. E9-27315 Filed 11-12-09; 8:45 am]

BILLING CODE 3510-22-S